DEPARTMENT OF HEALTH AND HUMAN SERVICES

Centers for Medicare & Medicaid Services

[Document Identifier: CMS-437, CMS-10358 and CMS-10360]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of currently approved collection; Title of Information Collection: Psychiatric Unit Criteria Work Sheet and Supporting Regulations 412.25 and 412.27; Use: A limited number of hospitals and special hospital units are excluded from the Medicare Prospective Payment System (PPS) which determines Medicare payment for operating costs and capital-related costs of inpatient hospital services. 42 CFR 412.25 and 42 CFR 412.27 describes the criteria under which these facilities are excluded. Excluded units are paid on the basis of reasonable costs subject to target rate ceilings (provided for by Section 1886(b) of the Social Security Act). State survey agencies (SAs) are required to conduct initial onsite surveys of these units to verify that they continue to meet PPS-exclusion criteria. CMS proposes to continue to use the Criteria Worksheet, Forms CMS-437 for verifying first-time exclusions from the PPS, for complaint surveys, for its annual 5 percent validation sample, and for facility self-attestation. These forms are related to the survey and certification and Medicare approval of the PPS-excluded units; Form Number: CMS-437 (OMB#: 0938-0358); Frequency: Annually; Affected Public: Private sector businesses or other for-profits; Number of Respondents: 1,333; Total Annual Responses: 1,333; Total Annual Hours: 333. (For policy questions regarding this collection contact Kelley Leonette at 410-786-6664. For all other issues call 410-786-1326.)

2. Type of Information Collection Request: New Collection; Title of Information Collection: MMIS APD Template for Use by States When Implementing the Mandatory National Correct Coding Initiative in Medicaid, SMD Letter #10-017 dated September 1, 2010. Use; The Patient Protection and Affordable Care Act (Affordable Care Act) requires implementation of Section 6507, Mandatory State Use of National Correct Coding Initiative. A State Medicaid Director letter, #10-017 dated September 1, 2010 was published with implementation requirements for provision 6507. Within this SMD letter, CMS states that a Medicaid Management Information System (MMIS) Advanced Planning Document (APD) template is required for States to request Federal financial participation (FFP) funding for implementing the provision and is also the tool for requesting deactivation of edits, due to direct conflicts with State laws, regulations, administrative rules, or payment policies. CMS has developed an MMIS-APD template specific to NCCI for State convenience. The MMIS APD template supporting implementation of the National Correct Coding Initiative in Medicaid will be submitted by States to the Regional Offices for review and to CMS Central Office for review and approval. The information requested on the MMIS APD template for NCCI will be used to determine and approve FFP to States. Form Number: CMS-10358 (OMB#: 0938-New); Frequency: Occasionally; Affected Public: State, Local, or Tribal Governments; Number of Respondents: 55; Total Annual Responses: 56; Total Annual Hours: 56. (For policy questions regarding this collection contact Richard Friedman at 410-786-4451. For all other issues call 410-786-1326.)

3. Type of Information Collection Request: New collection; Title of Information Collection: Consumer Research on Public Reporting of Hospital Outpatient Measures; Use: One of the primary missions of CMS is to improve the quality and efficiency of care in the Fee-for-Service (FFS) program. One of the several vehicles used for this mission is the public reporting of quality, efficiency and cost information about hospital care on the Hospital Compare Web site. This vehicle also serves to provide Medicare beneficiaries and other consumers with the type of data needed to make informed decisions about which providers to use for their care. In 2001, the Department of Health and Human Services (DHHS) announced the Quality Initiative to ensure the quality of health care for all Americans through accountability and public disclosure. The goals of the initiative are to empower consumers with quality-of-care information so they can make more informed decisions about their health care and to stimulate and support providers and clinicians to improve the quality of health care. As part of the DHHS Transparency Initiative on Quality Reporting, CMS plans to add new patient safety measures in the areas of hospital acquired conditions and healthcare associated infections, to the Hospital Compare Web site in 2011. CMS also intends to begin utilizing displays of composite measures summarizing both process and outcome measures. This information collection request covers consumer research on displays, labels, and explanatory language to insure that the website is understood by viewers in a manner consistent with CMS's intended communication message. Form Number: CMS-10360 (OMB#: 0938-NEW); Frequency: Once; Affected Public: Individuals and Households; Number of Respondents: 248; Total Annual Responses: 248; Total Annual Hours: 241. (For policy questions regarding this collection contact David Miranda at 410-786-7819. For all other issues call 410-786-1326.)

To obtain copies of the supporting statement and any related forms for the proposed paperwork collections referenced above, access CMS Web Site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received by the OMB desk officer at the address below, no later than 5 p.m. on March 14, 2011. OMB, Office of Information and Regulatory Affairs. Attention: CMS Desk Officer. Fax Number: (202) 395-6974. E-mail: OIRA_submission@omb.eop.gov.

Martique Jones,
Director, Regulations Development Group, Division B, Office of Strategic Operations and Regulatory Affairs.

[FR Doc. 2011-3056 Filed 2-10-11; 8:45 am]

BILLING CODE 4120-01-P